ENVIRONMENTAL PROTECTION AGENCY

[EPA-HQ-OAR-2006-0895; FRL-9901-94-OEI]

Information Collection Request Submitted to OMB for Review and Approval; Comment Request; Engine Emission Defect Information Reports and Voluntary Emission Recall Reports (Renewal)

AGENCY: Environmental Protection Agency (EPA).

ACTION: Notice.

SUMMARY: The Environmental Protection Agency has submitted an information collection request (ICR), Engine Emission Defect Information Reports and Voluntary Emission Recall Reports (EPA ICR Number 0282.16, OMB Control Number 2060-0048) to the Office of Management and Budget (OMB) for review and approval in accordance with the Paperwork Reduction Act (44 U.S.C. 3501 et seq.). This is a proposed extension of the ICR, which is currently approved through October 31, 2013 request for approval of a new collection. Public comments were previously requested via the Federal Register (78 FR 29751) on May 21, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 27, 2013.

ADDRESSES: Submit your comments, referencing Docket ID Number EPA-HQ-OAR-2006-0895, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nydia Reyes-Morales, Office of Transportation and Air Quality, Mail Code 6405J, Environmental Protection Agency, 1200 Pennsylvania Ave. NW., Washington, DC 20460; telephone number: 202-343-9264; fax number: 202-343-2804; email address: reyes-morales.nydia@epa.gov.

SUPPLEMENTARY INFORMATION:

Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Under the provisions of the Clean Air Act (CAA), the Administrator is required to promulgate regulations to control air pollutant emissions from motor vehicles and nonroad engines, as defined in the CAA. Per Sections 207(c)(1) and 213 of the CAA, when a substantial number of properly maintained and used engines produced by a manufacturer do not conform to emission standards, the manufacturer is required to recall the engines. Engine manufacturers are required to submit Defect Information Reports (DIRs) if emission-related defects are found on engines of the same model year that may cause the engines' emissions to exceed the standards. EPA uses these reports to target potentially nonconforming classes of engines for future testing, to monitor compliance with applicable regulations and to order a recall, if necessary. Manufacturers can also initiate a recall voluntarily by submitting a Voluntary Emission Recall Report (VERR). VERRs and VERR updates allow EPA to determine whether the manufacturer conducting the recall is acting in accordance with the CAA and to examine and monitor the effectiveness of the recall campaign.

Forms: The forms associated with this ICR are available in the docket (EPA-HQ-OAR-2006-0895).

Respondents/affected entities: Manufacturers of heavy-duty highway and nonroad engines.

Respondent's obligation to respond: Mandatory under 40 CFR parts 85, 89, 90, 91, 92, 94, 1035, 1039, 1042, 1045, 1048, 1051, 1054, 1068.

Estimated number of respondents: 40 (total).

Frequency of response: Quarterly.

Total estimated burden: 15,084 hours (per year). Burden is defined at 5 CFR 1320.03(b).

Total estimated cost: $1,042,252 (per year), includes $9,800 annualized capital or operation & maintenance costs.

Changes in the Estimates: There is decrease of 11,479 hours in the total estimated respondent burden compared with the ICR currently approved by OMB. This decrease is due to a significant decrease in the estimated number of respondents. This decrease is due to adjustments EPA has made to its estimates.

John Moses,
Director, Collection Strategies Division.

[FR Doc. 2013-25296 Filed 10-25-13; 8:45 am]

BILLING CODE 6560-50-P